DEPARTMENT OF DEFENSE

Department of the Air Force

Privacy Act of 1974; System of Records

AGENCY: Department of the Air Force, DoD.

ACTION: Notice to alter systems of records.

SUMMARY: The Department of the Air Force is proposing to alter a system of records notice in its existing inventory of record systems subject to the Privacy Act of 1974, (5 U.S.C. 552a), as amended. The alteration adds routine uses to the existing system of records so that information may be released for the purpose of collecting debts owed to the U.S. Government.

DATES: This proposed action will be effective without further notice on May 24, 2002, unless comments are received which result in a contrary determination.

ADDRESSES: Send comments to the Air Force Privacy Act Manager, AF CIO/P, 1155 Air Force Pentagon, Washington, DC 20330-1155.

FOR FURTHER INFORMATION CONTACT: Mrs. Anne Rollins at (703) 601-4043 or DSN 329-4043.

SUPPLEMENTARY INFORMATION: The Department of the Air Force systems of records notices subject to the Privacy Act of 1974, (5 U.S.C. 552a), as amended, have been published in the Federal Register and are available from the address above.

The proposed system reports, as required by 5 U.S.C. 552a(r) of the Privacy Act of 1974, as amended, was submitted on April 11, 2002, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 17, 2002.
Patricia L. Toppings,
Alternate OSD Federal Register Liaison Officer, Department of Defense.

F065 AF SVA A

System name:

Non-appropriated Fund Instrumentalities (NAFIs) Financial System (June 11, 1997, 62 FR 31793).

Changes:

* * * * *

Categories of individuals covered by the system:

Delete entry and replace with “All personnel who are members of Air Force membership associations or authorized patrons of any activity operated by one of the above NAFIs, and with whom financial transactions are conducted, e.g., the extension of credit in accordance with Air Force regulations, or the acceptance and cashing of personal checks. In accordance with appropriate Air Force regulations concerning NAFI participation, the above personnel may include, but are not limited to: Active duty and retired military members; members of United States Reserve components and Federally recognized National Guard units; military members of foreign governments on duty with the Department of Defense (DoD); DoD employees; other Federal Government employees working on military installations, retired DoD employees; contractor employees; technical representatives; and others who are authorized logistic support and work at the installation and where membership or usage would be in the best interest of the installation; paid members of the American Red Cross; children of deceased active duty or retired members of the United States Armed Forces; certain other categories of individuals identified as authorized personnel who directly support Air Force mission requirements; and authorized dependents or guests. Also covered are all personnel employed by or assigned to a NAFI who are involved in financial transactions involving the NAFI, whether internal or external, including, but not limited to, the receipt or control of cash or other properties.”

Categories of records in the system:

Delete entry and replace with “Records resulting from financial transactions with authorized members, patrons, vendors, contractors, or those otherwise entitled to utilize or deal with a NAFI. Such records include, but are not limited to: Subsidiary account ledgers maintained on individual members/authorized patrons who are charged dues and/or extended credit including the use of billeting type facilities prior to payment; form(s) on which delinquent accounts or dishonored checks and their disposition are maintained; and records of other sales or services. Records necessitated for internal/external financial record keeping or asset control, including but not limited to any account receivable, the receipt and control of cash; custody of tangible property, and any actions taken as a result of any irregularity. Case files relating to debts owed by individuals or entities also include those for salary/travel advances, pecuniary liability claims, overpayments, and credit cards. These files contain correspondence pertaining to the debts, e.g., notices from banks or other financial institutions concerning indebtedness, originals or copies of returned checks, memos reflecting attempts to contact the debtor, repayment requests, payment options, charges on accounts, account statements, and other related documents and correspondence.”

* * * * *

Routine uses of records maintained in the system, including categories of users and the purposes of such uses:

Add five new paragraphs to the entry “To the U.S. Department of Justice/U.S. Attorneys for legal action and/or final disposition of the debt claim.

To the Internal Revenue Service (IRS) to obtain locator status for delinquent accounts receivables (controls exist to preclude redisclosure of solicited IRS address data; and/or to report write-off amounts as taxable income as pertains to amounts compromised and accounts barred from litigation due to age).

To private collection agencies for collection action when the internal collection efforts have been exhausted.

To the Department of the Treasury, Financial Management Service, for the purpose of collecting delinquent debts owed to the U.S. Government via administrative offset.

To any employer (person or entity) that employs the services of others where the employee owes a delinquent nontax debt to the United States. The term employer includes, but is not limited to, state and local government, but does not include any agency of the Federal Government.”

Add a new entry “Disclosure to consumer reporting agencies: Disclosure pursuant to 5 U.S.C. 552a(b)(12) may be made from this system to consumer reporting agencies as defined in the Fair Credit Reporting Act (14 U.S.C. 1681a(f)) or the Federal Claims Collection Act of 1966 (31 U.S.C. 3701(a)(3)). The purpose of this disclosure is to aid in the collection of outstanding debts owed to the Federal Government, typically to provide an incentive for debtors to repay delinquent Federal Government debts by making these debts part of their credit records.

The disclosure is limited to information necessary to establish the identity of the individual, including name, address, and taxpayer identification number (Social Security Number); the amount, status, and history of the claim; and the agency or program under which the claim arose for the sole purpose of allowing the consumer reporting agency to prepare a commercial credit report.”

* * * * *

F065 AF SVA A

System name:

Non-appropriated Fund Instrumentalities (NAFIs) Financial System.

System location:

Headquarters Air Force Services Agency, 10100 Reunion Place, Suite 400, San Antonio, TX 78216-4138, major commands, field operating agencies, and individual Air Force bases. System exists within approximately 500 NAFIs which include resale and revenue-sharing NAFIs; base Morale, Welfare, and Recreation Fund (MWRF) NAFIs; and supplemental mission services NAFIs. Official mailing addresses are published as an appendix to the Air Force’s compilation of record systems notices.

Categories of individuals covered by the system:

All personnel who are members of Air Force membership associations or authorized patrons of any activity operated by one of the above NAFIs, and with whom financial transactions are conducted, e.g., the extension of credit in accordance with Air Force regulations, or the acceptance and cashing of personal checks. In accordance with appropriate Air Force regulations concerning NAFI participation, the above personnel may include, but are not limited to: Active duty and retired military members; members of United States Reserve components and Federally recognized National Guard units; military members of foreign governments on duty with the Department of Defense (DoD); DoD employees; other Federal Government employees working on military installations, retired DoD employees; contractor employees; technical representatives; and others who are authorized logistic support and work at the installation and where membership or usage would be in the best interest of the installation; paid members of the American Red Cross; children of deceased active duty or retired members of the United States Armed Forces; certain other categories of individuals identified as authorized personnel who directly support Air Force mission requirements; and authorized dependents or guests. Also covered are all personnel employed by or assigned to a NAFI who are involved in financial transactions involving the NAFI, whether internal or external, including, but not limited to, the receipt or control of cash or other properties.

Categories of records in the system:

Records resulting from financial transactions with authorized members, patrons, vendors, contractors, or those otherwise entitled to utilize or deal with a NAFI. Such records include, but are not limited to: Subsidiary account ledgers maintained on individual members/authorized patrons who are charged dues and/or extended credit including the use of billeting type facilities prior to payment; form(s) on which delinquent accounts or dishonored checks and their disposition are maintained; and records of other sales or services. Records necessitated for internal/external financial record keeping or asset control, including but not limited to any account receivable, the receipt and control of cash; custody of tangible property, and any actions taken as a result of any irregularity. Case files relating to debts owed by individuals or entities also include those for salary/travel advances, pecuniary liability claims, overpayments, and credit cards. These files contain correspondence pertaining to the debts, e.g., notices from banks or other financial institutions concerning indebtedness, originals or copies of returned checks, memos reflecting attempts to contact the debtor, repayment requests, payment options, charges on accounts, account statements, and other related documents and correspondence.

Authority for maintenance of the system:

10 U.S.C. 8013, Secretary of the Air Force; Federal Claims Collection Act of 1966 (Pub. L. 89-508, as amended); Debt Collection Act of 1982 (Pub. L. 97-365), as amended by the Debt Collection Improvement Act of 1996 (Pub. L. 104-134, Section 31001); 31 CFR 285.11, Administrative Wage Garnishment; Air Force Instruction 34-209, Non-appropriated Funds Financial Management and Accounting; Air Force Instruction 34-202, Protecting Non-appropriated Fund Assets; and Air Force Manual 34-214, Procedures for Non-appropriated Funds Financial Management and Accounting; and E.O. 9397 (SSN).

Purpose(s):

To record charges and credits of members and others authorized credit. To prepare billing statements or furnish data to an outside party to prepare billing statements. To maintain a record of returned checks. To assist in collecting all amounts due in accordance with established Air Force procedures. To compile a statistical quarterly report on returned checks and statistical data on delinquent accounts receivable for use with the financial reports. To verify eligibility to engage in financial transactions with a NAFI and other sales and extensions of credit. To form a database within the financial system of the NAFI used by personnel responsible for conducting Air Force NAF financial transactions.

Routine uses of records maintained in the system, including categories of users and the purposes of such uses: In addition to those disclosures generally permitted under 5 U.S.C. 552a(b) of the Privacy Act, these records or information contained therein may specifically be disclosed outside the DoD as a routine use pursuant to 5 U.S.C. 552a(b)(3) as follows:

To the U.S. Department of Justice/U.S. Attorneys for legal action and/or final disposition of the debt claim.

To the Internal Revenue Service (IRS) to obtain locator status for delinquent accounts receivables (controls exist to preclude redisclosure of solicited IRS address data; and/or to report write-off amounts as taxable income as pertains to amounts compromised and accounts barred from litigation due to age).

To private collection agencies for collection action when the internal collection efforts have been exhausted.

To the Department of the Treasury, Financial Management Service, for the purpose of collecting delinquent debts owed to the U.S. Government via administrative offset.

To any employer (person or entity) that employs the services of others where the employee owes a delinquent nontax debt to the United States. The term employer includes, but is not limited to, state and local government, but does not include any agency of the Federal Government.

Records from this system may be disclosed to other government agencies, commercial or nonprofit concerns conducting activities in support of, similar to, or in furtherance of, the Air Force programs involved.

The DoD “Blanket Routine Uses” published at the beginning of the Air Force's compilation of record system notices apply to this system.

Disclosure to consumer reporting agencies:

Disclosure pursuant to 5 U.S.C. 552a(b)(12) may be made from this system to consumer reporting agencies as defined in the Fair Credit Reporting Act (14 U.S.C. 1681a(f)) or the Federal Claims Collection Act of 1966 (31 U.S.C. 3701(a)(3)). The purpose of this disclosure is to aid in the collection of outstanding debts owed to the Federal Government, typically to provide an incentive for debtors to repay delinquent Federal Government debts by making these debts part of their credit records.

The disclosure is limited to information necessary to establish the identity of the individual, including name, address, and taxpayer identification number (Social Security Number); the amount, status, and history of the claim; and the agency or program under which the claim arose for the sole purpose of allowing the consumer reporting agency to prepare a commercial credit report.

Policies and practices for storing, retrieving, accessing, retaining, and disposing of records in the system:

Storage:

Maintained in visible file binders/cabinets, in computers and on computer output products.

Retrievability:

Retrieved by name, membership organization account number, and/or Social Security Number.

Safeguards:

Records are accessed by person(s) responsible for servicing the record system in performance of their official duties and by authorized personnel who are properly screened and cleared for need-to-know. Records stored in locked rooms, cabinets, and in computer storage devices protected by computer system software.

Retention and disposal:

Subsidiary accounts receivable are retained throughout the life cycle of credit sales and for as long as an individual remains in an active member/authorized patron status. Those forms used in connection with delinquent accounts or returned checks are retained until no longer needed. Records are destroyed by tearing into pieces, shredding, pulping, macerating or burning. Computer records are destroyed by erasing, deleting or overwriting.

System manager(s) and address:

Director, Financial Management and Comptroller, Headquarters Air Force Services Agency (HQ AFSVA/SVF), 10100 Reunion Place, Suite 400, San Antonio, TX 78216-4138.

Notification procedure:

Individuals seeking to determine whether this system of records contains information on them should address inquiries to or visit the Directorate of Financial Management and Comptroller, Headquarters Air Force Services Agency (HQ AFSVA/SVF), 10100 Reunion Place, Suite 400, San Antonio, TX 78216-4138.

Individuals may also contact the appropriate base NAF Accounting Office or the appropriate operating manager. Official mailing addresses are published as an appendix to the Air Force's compilation of record systems notices.

Record access procedures:

Individuals seeking to access records about themselves contained in this system should address requests to the Directorate of Financial Management and Comptroller, Headquarters Air Force Services Agency (HQAFSVA/SVF), 10100 Reunion Place Suite 400, San Antonio, TX 78216-4138.

Individuals may also contact the appropriate base NAF Accounting Office or the appropriate operating manager. Official mailing addresses are published as an appendix to the Air Force's compilation of record systems notices.

Contesting record procedures:

The Air Force rules for accessing records, and for contesting contents and appealing initial agency determinations are published in Air Force Instruction 37-132; 32 CFR part 806b; or may be obtained from the system manager.

Record source categories:

Individual members/patrons/users of a service themselves, charge slips, payment receipts, checks, and other authorized financial forms and records.

Exemptions claimed for the system:

None.

[FR Doc. 02-9962 Filed 4-23-02; 8:45 am]

BILLING CODE 5001-08-P